DEPARTMENT OF DEFENSE

Office of the Secretary

[Transmittal No. 23-66]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-66, Policy Justification, and Sensitivity of Technology.

Dated: October 24, 2024.
Aaron T. Siegel,
Alternate OSD Federal Register Liaison Officer, Department of Defense.

BILLING CODE 6001-FR-P

BILLING CODE 6001-FR-C

Transmittal No. 23-66

Notice of Proposed Issuance of Letter of Offer Pursuant to Section 36(b)(1) of the Arms Export Control Act, as amended

(i) Prospective Purchaser: Government of the Republic of Bulgaria

(ii) Total Estimated Value:

Major Defense Equipment * | $1.0 billion
Other | $.5 billion
TOTAL | $1.5 billion

Funding Source: National Funds

(iii) Description and Quantity or Quantities of Articles or Services under Consideration for Purchase: The Government of the Republic of Bulgaria has requested to buy one hundred eighty-three (183) Stryker Family of Vehicles, including:

Major Defense Equipment (MDE):

Ninety (90) XM1296 Infantry Carrier Vehicles—Dragoon (ICVD)

Seventeen (17) M1126 Infantry Carrier Vehicles (ICV)

Nine (9) M1132 Engineer Squad Vehicles (ESV)

Thirty-three (33) M1130 Command Vehicles (CV)

Twenty-four (24) M1133 Medical Evacuation Vehicles (MEV)

Ten (10) M1135 Nuclear, Biological, Chemical Reconnaissance Vehicles (NBCRV)

Five (5) Heavy Expanded Mobility Tactical Truck (HEMTT) Light Equipment Transport (LET)

Five (5) Modular Catastrophic Recovery System (MCRS)

Two (2) M1120A4 HEMTT Load Handling System

Five (5) M984A4 Wrecker HEMTT

One hundred seven (107) M240 Coaxial 7.62mm Machine Guns

Non-MDE:

The following are also included: support service equipment; M-153A4 Common Remote Operated Weapons Stations (CROWS); Forward Repair Systems (FRS); M2A1 .50 caliber machine guns; M6 smoke grenade launchers and associated spares; Harris radios; AN/VAS-5 Driver's Vision Enhancer (DVE); DVE-Wide; communications equipment; RS6 (LW30) Remote Weapon Systems; TACFLIR 280 HDEP systems; Ranger R20SS Radar; ROVER6Si transceivers; spare parts; Basic Issue Items (BII), Components of End Items (COEI), and Additional Authorized List (AAL); Special Tools and Test Equipment (STTE); technical manuals; OCONUS Deprocessing Service; OCONUS contractor provided training and Field Service Representatives (FSR); component assembly in-country; and other related elements of logistics and program support.

(iv) Military Department: Army (BU-B-UCP, BU-B-UCS)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: September 1, 2023

* As defined in Section 47(6) of the Arms Export Control Act.

POLICY JUSTIFICATION

Bulgaria—Stryker Vehicles

The Government of the Republic of Bulgaria has requested to buy one hundred eighty-three (183) Stryker Family of Vehicles. The proposed sale would consist of: ninety (90) XM1296 Infantry Carrier Vehicles—Dragoon (ICVD); seventeen (17) M1126 Infantry Carrier Vehicles (ICV); nine (9) M1132 Engineer Squad Vehicles (ESV); thirty-three (33) M1130 Command Vehicles (CV); twenty-four (24) M1133 Medical Evacuation Vehicles (MEV); ten (10) M1135 Nuclear, Biological, Chemical Reconnaissance Vehicles (NBCRV); five (5) Heavy Expanded Mobility Tactical Truck (HEMTT) Light Equipment Transports (LET); five (5) Modular Catastrophic Recovery Systems (MCRS); two (2) M1120A4 HEMTT Load Handling Systems; five (5) M984A4 Wrecker HEMTTs; and one hundred seven (107) M240 Coaxial 7.62mm machine guns. Also included is support service equipment; M-153A4 Common Remote Operated Weapons Stations (CROWS); Forward Repair Systems (FRS); M2A1 .50 caliber machine guns; M6 smoke grenade launchers and associated spares; Harris radios; AN/VAS-5 Driver's Vision Enhancer (DVE); DVE-Wide; communications equipment; RS6 (LW30) Remote Weapon Systems; TACFLIR 280 HDEP systems; Ranger R20SS Radar; ROVER6Si transceivers; spare parts; Basic Issue Items (BII), Components of End Items (COEI), and Additional Authorized List (AAL); Special Tools and Test Equipment (STTE); technical manuals; OCONUS Deprocessing Service; OCONUS contractor provided training and Field Service Representatives (FSR); component assembly in-country; and other related elements of logistics and program support. The estimated total cost is $1.5 billion.

This proposed sale will support the foreign policy and national security objectives of the United States by helping to improve the security of a North Atlantic Treaty Organization ally that is a force for political stability and economic progress in Europe.

The proposed sale will improve Bulgaria's rapid infantry deployment and force projection capability. Bulgaria will use this enhanced capability to strengthen its homeland defense and deter regional threats. Bulgaria will have no difficulty absorbing this equipment and services into its armed forces.

The principal contractor will be General Dynamics Land Systems, Anniston, AL. There are no known offset agreements proposed in connection with this potential sale.

Implementation of this proposed sale will require twenty (20) Stryker contractor representatives to travel to Bulgaria for twenty-four (24) months to conduct contractor logistics support, training, and component assembly support.

There will be no adverse impact on U.S. defense readiness as a result of this proposed sale.

Transmittal No. 23-66

Notice of Proposed Issuance of Letter of Offer Pursuant to Section 36(b)(1) of the Arms Export Control Act

Annex

Item No. vii

(vii) Sensitivity of Technology:

1. The Stryker Family of Vehicles (FoV) are all derived from the Flat Bottom Infantry Carrier Vehicle (ICV). The ICV supplies the common suspension (except for the ICVD), drive line, major C4 components, and hull to the FoV. The FoV is powered by a 350 horsepower C7 Caterpillar diesel engine and runs on eight wheels that feature run flat capability and a central tire inflation system (CTIS). It contains a vehicle height management system to aid in transportability. The FoV is supported by a communications suite that integrates the Single Channel Ground and Airborne Radio System (SINCGARS) radio family and Global Positioning System (GPS) and their commercially exportable equivalents, and has a Mission Equipment Package that add to the ICV common capabilities. The Stryker is deployable by C-130 aircraft and is combat capable upon arrival; it is also capable of self-deployment by highway and can conduct self-recovery. It has a low noise level that reduces crew fatigue and enhances survivability. It moves about the battlefield quickly and is optimized for close, complex, or urban terrain. The Stryker program leverages non-developmental items with common subsystems and components to quickly acquire and field these systems.

2. The XM914E1 is a single feed chain gun that fires linked, percussion-primed 30mm x 113mm ammunition. The gun is powered by a 1 horsepower 28V (volt) direct current (DC) motor and incorporates hang fire safety protection. Actual operation of the gun is accomplished via the platform's fire control system in conjunction with and through the dedicated Gun Control Unit (GCU). The GCU provides all electrical power to the gun, including operational and sensor level 28V DC power. The weapon has a cyclic firing rate of 200 ± 25 shots per minute. Actual firing rate varies within the specification range due to system level characteristics, such as inputted voltage and ammunition feed system loads.

3. The RS6 Remote Weapon System (RWS) is an externally mounted weapon mounting and control system that allows the gunner to remain inside the vehicle protected by armor while firing a variety of crew-served weapons, including the XM914E1 chain gun. The RS6 allows for remote day and night sighting and ballistic control capability, providing first-burst engagement of targets at maximum effective weapon range while on the move.

4. The AN/VAS-5 Driver's Vision Enhancer (DVE) is compact thermal camera providing armored vehicle drivers with day or nighttime visual awareness in clear or reduced vision (fog, smoke, dust, etc.) situations. The system provides the driver a 50-degree viewing angle using a high-resolution infrared sensor and image stabilization to reduce the effect of shock and vibration. The viewer and monitor are ruggedized for operation in tactical environments.

5. The Driver's Vision Enhancer (DVE-Wide) mounted on the XM1296 ICVD, is a compact thermal camera providing armored vehicle drivers with day or nighttime visual awareness in clear or reduced vision (fog, smoke, dust, etc.) situations. The system provides the driver a 180-degree viewing angle using a high-resolution infrared sensor and image stabilization to reduce the effect of shock and vibration. The viewer and monitor are ruggedized for operation in tactical environments.

1. The Common Remote Operated Weapon Station (CROWS) is an externally-mounted weapon mounting and control system that allows the gunner to remain inside the vehicle protected by armor while firing a variety of crew-served weapons. The CROWS allows for remote day and night sighting and ballistic control capability, providing first-burst engagement of targets at maximum effective weapon range while on the move.

2. hC2 BMS solution—the hC2 Software Suite is a complete COMMAND and Control (C2) solution that offers clarity, simplicity, and high performance to address real world C2 challenges at all echelon levels. The hC2 Suite connects the headquarters all the way down the echelon to the tactical edge. At the core of the hC2 Suite is hC2 Tactical Communications, which enables full integration and interoperability of the three hC2 components: COMMAND, PATROL and DISMOUNT. hC2 Tactical Communications provides networked COMMAND and control and shared situational awareness, allowing for information exchange across echelons. hC2 Tactical Communications is operable on limited bandwidth, high latency tactical radio data communications frequencies. hC2 also supports IP and non-IP radios and can handle different types of radios, even within the same vehicle.

3. The highest level of classification of defense articles, components, and services included in this potential sale is SECRET.

4. If a technologically advanced adversary were to obtain knowledge of the specific hardware and software elements, the information could be used to develop countermeasures that might reduce weapon system effectiveness or be used in the development of a system with similar or advanced capabilities.

5. A determination has been made that Bulgaria can provide the same degree of protection for the sensitive technology being released as the U.S. Government. This sale is necessary in furtherance of the U.S. foreign policy and national security objectives outlined in the Policy Justification.

6. All defense articles and services listed in this transmittal have been authorized for release and export to the Republic of Bulgaria.

[FR Doc. 2024-25117 Filed 10-28-24; 8:45 am]

BILLING CODE 6001-FR-P